DEPARTMENT OF COMMERCE

National Oceanic and Atmospheric Administration

50 CFR Parts 224 and 226

[Docket No. 230906-0211]

RIN 0648-BL86

Endangered and Threatened Wildlife and Plants; Designation of Critical Habitat for the Rice's Whale, Public Hearing and Extension of Public Comment Period

AGENCY: National Marine Fisheries Service (NMFS), National Oceanic and Atmospheric Administration (NOAA), Commerce.

ACTION: Notice of public hearing, extension of comment period.

SUMMARY: We, NMFS, have rescheduled a public hearing related to the proposed rule to designate critical habitat for the Rice's whale under the Endangered Species Act (ESA). We are also extending the public comment period for this proposed rule to October 6, 2023.

DATES: A virtual public hearing on the proposed rule will be held online on September 28, 2023, from 3 p.m. to 5 p.m. (Eastern Daylight Time).

The proposed rule to designate critical habitat for the Rice's whale under the ESA was published on July 24, 2023 (88 FR 47453), and provided for a public comment period to September 22, 2023. The comment period is now extended to October 6, 2023. Comments must be received by October 6, 2023. Comments received after this date may not be accepted.

ADDRESSES: The public hearing will be conducted as a virtual meeting, and any member of the public can join by internet or phone regardless of location. You may join the virtual meeting using a web browser, a mobile app on a phone (app installation required), or—to listen only—using just a phone call, as specified at this link: https://www.fisheries.noaa.gov/species/riceswhale#conservationmanagement.

You may submit comments verbally at the public hearing. You may also submit comments in writing by any of the following methods:

• Electronic Submissions: Submit all electronic comments via the Federal eRulemaking Portal. Go to https://www.regulations.gov and enter NOAA-NMFS-2023-0028. Click on the “Comment” icon, complete the required fields, and enter or attach your comments.

• Mail: Submit written comments to Assistant Regional Administrator, Protected Resources Division, NMFS, Southeast Regional Office, 263 13th Avenue South, St. Petersburg, FL 33701.

Instructions: Comments sent by any other method, to any other address or individual, or received after the end of the comment period might not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe portable document format (PDF) formats only.

Details on the virtual public hearing will be made available on our website at: https://www.fisheries.noaa.gov/species/riceswhale#conservationmanagement. The Endangered Species Act Critical Habitat Report, geographic information system (GIS) data, and maps that were prepared to support the development of this proposed rule are available on our website at: https://www.fisheries.noaa.gov/species/riceswhale#conservationmanagement. Previous rulemaking documents related to the listing of the species can also be obtained electronically on our website at: https://www.fisheries.noaa.gov/species/rices-whale#conservationmanagement.

FOR FURTHER INFORMATION CONTACT: Grant Baysinger, NMFS Southeast Region, (727) 551-5790; or Lisa Manning, NMFS Office of Protected Resources, (301) 427-8466.

SUPPLEMENTARY INFORMATION: On July 24, 2023, NMFS published a proposed rule to designate critical habitat for the endangered Rice's whale (Balaenoptera ricei) under the ESA (88 FR 47453). In that notice, we also announced a 60-day public comment period, two virtual public hearings to be held on August 24, 2023 and August 30, 2023, and an option to request an additional public hearing made in writing by September 7, 2023. On August 24, 2023, we held a virtual public hearing. On August 28, 2023, we canceled the public hearing scheduled for August 30, 2023, ahead of Hurricane Idalia's expected landfall. We have now rescheduled that public hearing to September 28, 2023, from 3 p.m. to 5 p.m. (Eastern Daylight Time), as described in this notice. To accommodate this second public hearing and provide additional time needed to submit public comments following the disruptions stemming from Hurricane Idalia, we are also extending the public comment period to October 6, 2023.

Public Hearing

The public hearing on September 28, 2023, will be conducted online as a virtual meeting, as specified in ADDRESSES above. More detailed instructions for joining the virtual meeting are provided on our web page (see https://www.fisheries.noaa.gov/species/riceswhale#conservationmanagement). The hearing will begin with a brief presentation by NMFS that will give an overview of the proposed critical habitat designation under the ESA. After the presentation, there will be a question and answer session during which members of the public may ask NMFS staff questions about the proposed rule. Following the question and answer session, members of the public will have the opportunity to provide oral comments on the record regarding the proposed rule. In order to ensure all participants have an opportunity to speak during the hearing, the time allotted for individual oral comments may be limited. Therefore, anyone wishing to make an oral statement at the public hearing for the record is encouraged to prepare a written copy of their comments. All oral comments will be recorded and added to the public comment record for this proposed rule.

Written comments may also be submitted during the public comment period as described under DATES and ADDRESSES.

Reasonable Accommodations

People needing accommodations so that they may attend and participate at the public hearing should submit a request for reasonable accommodations as soon as possible, and no later than 7 business days prior to the hearing date, by contacting Grant Baysinger (see FOR FURTHER INFORMATION CONTACT).

Authority: The authority for this action is the Endangered Species Act of 1973, as amended (16 U.S.C. 1531 et seq.).

Dated: September 6, 2023.
Samuel D. Rauch, III,
Deputy Assistant Administrator for Regulatory Programs, National Marine Fisheries Service.

[FR Doc. 2023-19643 Filed 9-11-23; 8:45 am]

BILLING CODE 3510-22-P